FEDERAL COMMUNICATIONS COMMISSION

Sunshine Act Meeting; Open Commission Meeting, Thursday, January 13, 2005

January 6, 2005.

The Federal Communications Commission will hold an Open Meeting on the subjects listed below on Thursday, January 13, 2005, which is scheduled to commence at 9:30 a.m. in Room TW-C305, at 445 12th Street, SW., Washington, DC. The Meeting will focus on presentations by senior agency officials regarding implementations of the agency's strategic plan and a comprehensive review of FCC policies and procedures.

Presentations will be made in four panels:

Panel One will feature the Chief of the Office of Strategic Planning and Policy Analysis and the Managing Director.

Panel Two will feature the Chiefs of the Wireless Telecommunications Bureau, the Office of Engineering and Technology and the International Bureau.

Panel Three will feature the Chief of the Consumer & Governmental Affairs Bureau, the Director of the Office of Workplace Diversity and the Chief of the Enforcement Bureau.

Panel Four will feature the Chief of the Media Bureau, the General Counsel and the Chief of the Wireline Competition Bureau.

Additional information concerning this meeting may be obtained from Audrey Spivack or David Fiske, Office of Media Relations, (202) 418-0500; TTY 1-888-835-5322. Audio/Video coverage of the meeting will be broadcast live over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 05-650 Filed 1-7-05; 2:51 pm]

BILLING CODE 6712-01-P